DEPARTMENT OF AGRICULTURE

Forest Service

Boundary Establishment for Clackamas National Wild and Scenic River, Mt. Hood National Forest, Clackamas and Marion Counties, Oregon

AGENCY: Forest Service, Agriculture (USDA).

ACTION: Notice of availability.

SUMMARY: In accordance with Section 3(b) of the Wild and Scenic Rivers Act, the Forest Service, U.S. Department of Agriculture, is transmitting the final boundary of the Clackamas National Wild and Scenic River to Congress.

FOR FURTHER INFORMATION CONTACT: Information may be obtained by contacting John Ransom, Regional Land Surveyor, by telephone at (503) 808-2420 or via email at john.ransom@usda.gov. Alternatively, contact Matt Peterson on the Mt. Hood National Forest at 541-735-1223 or matthew.peterson1@usda.gov. Individuals who use telecommunication devices for the deaf/hard-of-hearing (TDD) may call the Federal Relay Service (FRS) at 1-800-877-8339, 24 hours a day, every day of the year, including holidays.

SUPPLEMENTARY INFORMATION: The Clackamas Wild and Scenic River boundary description is available for review on the Mt. Hood National Forest website: https://www.fs.usda.gov/detail/mthood/home/?cid=FSEPRD588719.

Due to COVID-19 health and safety protocols to protect employees and visitors, many Forest Service offices are closed to the public. The Clackamas Wild and Scenic River boundary is available for review at the following offices if arrangements are made in advance: USDA Forest Service, Yates Building, 14th and Independence Avenues SW, Washington, DC 20024, phone—800-832-1355; Pacific Northwest Regional Office, 1220 SW Third Avenue, Portland, OR 97204, phone—503-808-2468; and Mt. Hood National Forest Supervisor's Office, 16400 Champion Way, Sandy, OR 97055, phone—503-668-1700. Please contact the appropriate office prior to arrival.

The Omnibus Oregon Wild and Scenic Rivers Act of 1988 (Pub. L. 100-557) of October 28, 1988, designated Clackamas, Oregon as a National Wild and Scenic River to be administered by the Secretary of Agriculture. As specified by law, the boundary will not be effective until ninety days after Congress receives the transmittal.

Dated: January 13, 2022.
Sandra Watts,
Acting Associate Deputy Chief, National Forest System.

[FR Doc. 2022-01034 Filed 1-19-22; 8:45 am]

BILLING CODE 3411-15-P